DEPARTMENT OF HEALTH AND HUMAN SERVICES

Centers for Disease Control and Prevention

[60Day-09-0212]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer at 404-639-5960 or send comments to CDC/ATSDR Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

National Hospital Discharge Survey (NHDS) (OMB# 0920-0212 exp. 10/31/2011)—Revision—National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on the extent and nature of illness and disability of the population of the United States. This three-year clearance request includes the data collection for 2010, 2011, and 2012 of the redesigned National Hospital Discharge Survey.

The National Hospital Discharge Survey (NHDS) has been conducted continuously by the National Center for Health Statistics, CDC, since 1965. It is the principal source of data on inpatient utilization of short-stay, non-Federal hospitals and is the principal annual source of nationally representative estimates on the characteristics of discharges, lengths of stay, diagnoses, surgical and non-surgical procedures, and patterns of use of care in hospitals in various regions of the country. It is the benchmark against which special programmatic data sources are measured.

Although the current NHDS is still fulfilling its intended functions, it is based on concepts from the health care delivery system, as well as the hospital and patient universes, of previous decades. It has become clear that a redesign of the NHDS that provides greater depth of information is necessary. Consequently, 2010 will serve as the last year in which the current NHDS will be fielded. Meanwhile, the redesigned NHDS is scheduled to begin in 2010.

Due to budgetary constraints, the new sample of 240 hospitals drawn for the redesigned NHDS will be phased in over two years. In 2010, data collection will begin in 80 sampled hospitals. Data collection for those initial 80 sites will continue into 2011 with the addition of another 160 sampled hospitals, for a grand total of 240. All 240 hospitals will be designated to participate in the 2012 survey. Within each sampled hospital, a stratified, random sample of 120 discharges will be targeted. In the redesigned survey all data will be abstracted by trained health care staff under contract. All data will be obtained from hospital records and charts and computer systems.

The data items to be collected in the redesigned NHDS will include significant additional details. Patient level data items to be collected include basic demographic information as well as personal identifiers, such as Social Security Number (last 4 digits), name and medical record number; clinical laboratory results, such as hematocrit and white blood cell count; and financial billing and medical record data. Facility level data items include demographic information, clinical capabilities, and financial information.

Users of NHDS data include, but are not limited to CDC, Congressional Research Office, Office of the Assistant Secretary for Planning and Evaluation (ASPE), American Health Care Association, Centers for Medicare & Medicaid Services (CMS), and Bureau of the Census. Data collected through NHDS are essential for evaluating health status of the population, for the planning of programs and policy to elevate the health status of the Nation, for studying morbidity trends, and for research activities in the health field. NHDS data have been used extensively in the development and monitoring of goals for the Year 2000 and 2010 Healthy People Objectives. In addition, NHDS data provide annual updates for numerous tables in the Congressionally-mandated NCHS report, Health, United States. Other users of these data include universities, contract research organizations, many in the private sector, foundations, and a variety of users in the print media. There is no cost to respondents other than their time to participate.

Estimated Annualized Burden Hours
Form | Respondents | Number of respondents | Number of responses per respondent | Average burden per response (in hours) | Total burden hours
CURRENT NHDS 2010:
Primary Procedure Hospital (PPH) Sample Listing Sheet | Medical Coder | 7 | 12 | 25/60 | 35
PPH Medical Abstract Form | Medical Coder | 7 | 250 | 5/60 | 146
PPH Transmittal Notice | Medical Coder | 7 | 12 | 1/60 | 1
Alternate Procedure Hospital—Locating medical records | Medical Coder | 20 | 250 | 1/60 | 83
In-House Tape or Printout Hospital—Computer programming and submission | Medical Coder | 14 | 12 | 13/60 | 36
Hospital Interview Questionnaire | Hospital CEO/CFO | 5 | 1 | 2 | 10
REDESIGNED NHDS 2010-2012:
Survey presentation to hospital | Hospital CEO/CFO | 80 | 1 | 1 | 80
Induction (including initial facility questionnaire) | Director of health information management | 80 | 1 | 4 | 320
Post induction annual facility questionnaire | Director of health information management | 107 | 1 | 2 | 214
Sample hospital discharges, obtain UB-04 & payment data | Director of health information management | 187 | 120 | 14/60 | 5,236
Verify sampling & re-abstract medical records | Director of health information management | 26 | 10 | 7/60 | 30
Total |  |  |  |  | 6,191

Dated: September 2, 2009.
Maryam I. Daneshvar,
Acting Reports Clearance Officer, Centers for Disease Control and Prevention.

[FR Doc. E9-21914 Filed 9-10-09; 8:45 am]

BILLING CODE 4163-18-P